DEPARTMENT OF ENERGY

Federal Energy Regulatory Commission

[Docket No. CP03-75-000]

Freeport LNG Development, L.P.; Notice of Site Visit for the Proposed Freeport LNG Project

September 17, 2003.

On September 23, 2003, the staff of the Federal Energy Regulatory Commission (Commission) will conduct a public site visit of proposed facilities of the Freeport LNG Project in Quintana, Texas. Only the LNG terminal site on Quintana Island will be visited.

Anyone interested in participating in the site visit should meet at Quintana Town Hall on Quintana Island at 2:30 pm. The meeting place is near the intersection of Lamar and 8th Streets. Participants must provide their own transportation.

For additional information, please contact the Commission's Office of External Affairs at (202) 502-8004.

Magalie R. Salas,
Secretary.

[FR Doc. 03-24229 Filed 9-24-03; 8:45 am]

BILLING CODE 6717-01-P